DEPARTMENT OF ENERGY

Federal Energy Regulatory Commission

[Docket Nos. ER06-615-000; ER07-1257-000; ER08-1113-000; ER08-1178-000; ER09-241-000; ER09-1048-000; ER09-1281-000]

California Independent System Operator Corporation; Notice of FERC Staff Attendance

June 29, 2009.

The Federal Energy Regulatory Commission (Commission) hereby gives notice that on the following dates members of its staff will participate in teleconferences and meetings to be conducted by the California Independent System Operator (CAISO). The agenda and other documents for the teleconferences and meetings are available on the CAISO's Web site, http://www.caiso.com.

June 30, 2009—Market Surveillance Committee.

July 1, 2009—Settlements and Market Clearing User Group. Congestion Revenue Rights.

July 2, 2009—Market Issues.

July 7, 2009—Systems Interface User Group.

July 8, 2009—Congestion Revenue Rights. Settlements and Market Clearing User Group.

July 9, 2009—Market Issues. Convergence Bidding Meeting.

July 14, 2009—Systems Interface User Group.

July 15, 2009—Settlements and Market Clearing User Group. Congestion Revenue Rights.

July 16, 2009—Market Issues. Transmission Maintenance Coordination Committee Meeting.

Sponsored by the CAISO, the teleconferences and meetings are open to all market participants, and Commission staff's attendance is part of the Commission's ongoing outreach efforts. The teleconferences and meetings may discuss matters at issue in the above captioned dockets.

For further information, contact Saeed Farrokhpay at saeed.farrokhpay@ferc.gov; (916) 294-0322 or Maury Kruth at maury.kruth@ferc.gov, (916) 294-0275.

Kimberly D. Bose,
Secretary.

[FR Doc. E9-16155 Filed 7-8-09; 8:45 am]

BILLING CODE P